DEPARTMENT OF COMMERCE

National Oceanic and Atmospheric Administration

[Docket No. 110614333-1503-02]

Request for Information: Technical Inputs and Assessment Capacity Related to Regional, Sectoral, and Cross-Cutting Assessments for the 2013 U.S. National Climate Assessment (NCA) Report and the Ongoing NCA Process

AGENCY: Office of Oceanic and Atmospheric Research (OAR), National Oceanic and Atmospheric Administration (NOAA), Department of Commerce (DOC).

ACTION: Request for information.

SUMMARY: This notice is an amendment to the request for information (RFI) published in the Federal Register on Wednesday, July 13, 2011 (76 FR 41217). This RFI sought comments and expressions of interest (EOI) from the public in providing technical inputs and/or offering assessment capacity on topics related to National Climate Assessment (NCA) regional, sectoral, and cross-cutting topics proposed for the 2013 NCA report and the ongoing NCA process. More information on the NCA process, including the strategic plan, proposed report outline, and information about the National Climate Assessment Development and Advisory Committee (NCADAC), can be found at http://assessment.globalchange.gov. This amendment provides a deadline of October 1, 2011 for EOIs describing anticipated inputs for the 2012 NCA report.

DATES: The deadline for EOIs describing anticipated inputs for the 2013 NCA report is October 1, 2011. As described in the RFI, the deadline for subsequent inputs for the 2013 NCA report remains March 1, 2012.

A full draft of the NCA report is anticipated by mid-2012, so that scientific and subject-matter experts and the broader public will have sufficient time to review the draft and provide comments to the NCADAC on its content. A full year is planned to review and revise the report, with a planned release of the final report in mid-2013. For complete instructions and supplementary information please see the original Federal Register Notice of a Request for Information at 76 FR 41217 (July 13, 2011), or the United States Global Change Research Program at http://assessment.globalchange.gov.

ADDRESSES: General comments and expressions of interest should be submitted via email to Emily Therese Cloyd, NCA Public Participation and Engagement Coordinator, at ecloyd@usgcrp.gov.

FOR FURTHER INFORMATION CONTACT: Any questions about the content of this request should be sent to Emily Therese Cloyd, NCA Public Participation and Engagement Coordinator, U.S. Global Change Research Program Office, 1717 Pennsylvania Ave., NW., Suite 250, Washington, DC 20006, Telephone (202) 223-6262, Fax (202) 223-3065, e-mail ecloyd@usgcrp.gov. For more information about the NCA process, including the strategic plan, proposed report outline, and information about the NCADAC, please visit http://assessment.globalchange.gov.

Dated: August 31, 2011
Mark E. Brown,
Chief Financial Officer/Chief Administrative Officer, Office of Oceanic and Atmospheric Research, National Oceanic and Atmospheric Administration.

[FR Doc. 2011-22743 Filed 9-6-11; 8:45 am]

BILLING CODE 3510-KD-P